FEDERAL RETIREMENT THRIFT INVESTMENT BOARD

Notice of Board Meeting; Correction

AGENCY: Federal Retirement Thrift Investment Board.

ACTION: Notice; correction.

SUMMARY: The FRTIB published a document in the Federal Register of March 16, 2021, concerning a notice of its March 2021 Board Meeting. The agenda for that meeting has since been updated.

FOR FURTHER INFORMATION CONTACT: Kimberly Weaver, Director, Office of External Affairs, (202) 942-1640.

SUPPLEMENTARY INFORMATION:

Correction

In the Federal Register of March 16, 2021, in FR Doc 2021-05465, on page 14629, remove the following language regarding the closed session of the Board Meeting:

Closed Session

1. Information covered under 5 U.S.C. 552b (c)(4).”

Dated: March 16, 2021.
Dharmesh Vashee,
Acting General Counsel.

[FR Doc. 2021-05898 Filed 3-22-21; 8:45 am]

BILLING CODE P